DEPARTMENT OF THE INTERIOR

Bureau of Land Management

[CA-610-01-1610-DL]

Notice of Extension of the Public Comment Period for the Draft Northern and Eastern Colorado Desert Coordinated Management Plan Environmental Impact Statement and the Draft Northern and Eastern Mojave Plan Amendments and Environmental Impact Statement

AGENCY: Bureau of Land Management, Department of the Interior, California Desert District Office, Riverside, California.

SUMMARY: Notice is hereby given that the Bureau of Land Management (BLM) has extended the public comment period for the Draft Northern and Eastern Colorado Desert Coordinated Management Plan Environmental Impact Statement and the Draft Northern and Eastern Mojave (NEMO) Plan Amendments and Environmental Impact Statement to Thursday, November 1, 2001.

SUPPLEMENTARY INFORMATION: The Draft Northern and Eastern Colorado Desert Coordinated Management (NECO) Plan Environmental Impact Statement was released for public review February 26, 2001. BLM extended the original 90-day public comment period to July 9, 2001. The Draft Plan analyzes alternatives for managing threatened, endangered, and sensitive species and habitats on federal lands administered by the BLM, Joshua Tree National Park, and the U.S. Marine Corps Chocolate Mountains Aerial Gunnery Range, and will amend BLM's 1980 California Desert Conservation Area Plan. The NECO planning area encompasses about 5.5 million acres in eastern San Bernardino, Riverside and Imperial Counties.

The Draft Northern and Eastern Mojave (NEMO) Plan Amendments and Environmental Impact Statement (EIS) was released for public review and comment April 13, 2001, and also will amend BLM's 1980 California Desert Conservation Area Plan. The Draft NEMO Plan EIS will provide for strategic, comprehensive management, including a programmatic biological opinion for the desert tortoise, and streamline the processing of land-use permits. The NEMO study area encompasses approximately 7.8 million acres, which includes Death Valley National Park, the Mojave National Preserve, and the planning area includes 2.4 million acres of BLM-managed public lands between the two park units.

Background Information: The Draft NECO and NEMO Plans are available online at http: //www.ca.blm.gov/cdd/landuseplanning.html. For a bound/CDRom copy of the Draft NECO Plan contact Dick Crowe at (909) 697-5200. For a bound/CDRom copy of the Draft NEMO Plan contact Edy Seehafer at (760) 525-6000.

DATES: Written statements on the Draft Northern and Eastern Colorado Desert Coordinated Management Plan Environmental Impact Statement and the Draft Northern and Eastern Mojave Plan Amendments and Environmental Impact Statement must be submitted or postmarked no later than November 1, 2001.

ADDRESSES: Comments regarding the Draft NECO Plan should be mailed to the Bureau of Land Management, Attn: Dick Crowe, 6221 Box Springs Blvd., Riverside, CA 92507. Comments regarding the Draft NEMO Plan should be mailed to the Bureau of Land Management, Attn: Edy Seehafer, 2601 Barstow Road, Barstow, California 92507.

FOR FURTHER INFORMATION CONTACT: Dick Crowe at (909) 697-5216 or Edy Seehafer at (760) 252-6021.

Dated: July 6, 2001.
Tim Salt,
District Manager, California Desert District.

[FR Doc. 01-18688 Filed 7-26-01; 8:45 am]

BILLING CODE 4310-40-P